ENVIRONMENTAL PROTECTION AGENCY

[ER-FRL-8996-9]

Environmental Impacts Statements; Notice of Availability

Responsible Agency: Office of Federal Activities, General Information (202) 564-1399 or http://www.epa.gov/compliance/nepa/.

Weekly receipt of Environmental Impact Statements.

Filed 05/02/2011 through 05/06/2011.

Pursuant to 40 CFR 1506.9.

Notice

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20110140, Final EIS, USFS, OR, Fremont-Winema National Forests Invasive Plant Treatment, Propose to Treat up to 8,700 Acres of Invasive Plant Infestation Per Year, Klamath and Lake Counties, OR, Review Period Ends: 06/13/2011, Contact: Glen Westlund 541-883-6743.

EIS No. 20110141, Draft EIS, USFS, 00, Nationwide Aerial Application of Fire Retardant Project, Proposing to Continue the Aerial Application of Fire Retardant on National Forest System Lands, Implementation, Comment Period Ends: 06/27/2011, Contact: Glen Stein 208-869-5405.

EIS No. 20110142, Draft EIS, USA, 00, Fort Benning Training Land Expansion Program, to Reduce the Army's Training Land Shortfall, GA and AL, Comment Period Ends: 06/27/2011, Contact: Jill Reilly-Hauck 210-424-8346.

EIS No. 20110143, Final EIS, BLM, CA, Palen Solar Power Plant Project, Construction, Operation and Decommission a Solar Thermal Facility on Public Lands, Approval for Right-of-Way Grant, Possible California Desert Conservation Area Plan Amendment, Riverside County, CA, Review Period Ends: 06/13/2011, Contact: Allison Shaffer 760-833-7100.

EIS No. 20110144, Final EIS, USAF, NV, Nellis Air Force Base (AFB), Proposes to Base 36 F-35 Fighter Aircraft, Assigned to the Force Development Evaluation (FDE) Program and Weapons School (WS) Beddown, Clark County, NV, Review Period Ends: 06/13/2011, Contact: Nick Germanos 757764-9334.

Amended Notices

EIS No. 20110051, Draft EIS, USN, CA, Marine Corps Air Ground Combat Center Project, Land Acquisition and Airspace Establishment to Support Large-Scale MAGTF Live-Fire and Maneuver Training Facility, San Bernardino County, CA, Comment Period Ends: 05/26/2011, Contact: Chris Proudfoot 760-830-3764.

Revision of FR Notice Published 02/24/2011: Extending Comment Period from 04/11/2011 to 05/26/2011.

EIS No. 20110080, Draft EIS, USN, WA, Trident Support Facilities Explosives Handling Wharf (EHW-2), Construction and Operating, Naval Base Kitsap Banorg, Silverdale, WA, Comment Period Ends: 05/17/2011, Contact: Christine Stevenson 360-396-0080.

This document is available on the Internet at: https://www.nbkeis.com/ehw/Welcome.aspx.

Revision to FR Notice Published 03/18/2011: Extending Comment Period from 05/02/2011 to 05/17/2011.

Dated: May 10, 2011.
Robert W. Hargrove,
Director, NEPA Compliance Division, Office of Federal Activities.

\

[FR Doc. 2011-11810 Filed 5-12-11; 8:45 am]

BILLING CODE 6560-50-P